NUCLEAR REGULATORY COMMISSION

Sunshine Act; Notice of Meetings

DATES: Weeks of October 5, 12, 19, 26, November 2, 9, 2009.

Place: Commissioners' Conference Room, 11555 Rockville Pike, Rockville, Maryland.

Status: Public and Closed.

Week of October 5, 2009

There are no meetings scheduled for the week of October 5, 2009.

Week of October 12, 2009—Tentative

Tuesday, October 13, 2009.

9:30 a.m.—Discussion of Security Issues (Closed—Ex. 3)

Week of October 19, 2009—Tentative

There are no meetings scheduled for the week of October 19, 2009.

Week of October 26, 2009—Tentative

There are no meetings scheduled for the week of October 26, 2009.

Week of November 2, 2009—Tentative

Tuesday, November 3, 2009.

9:30 a.m.—Briefing on Fire Protection Lessons Learned from Shearon Harris (Public Meeting) (Contact: Alex Klein, 301-415-2822)

This meeting will be webcast live at the Web address— http://www.nrc.gov.

Week of November 9, 2009—Tentative

Tuesday, November 10, 2009.

9:30 a.m.—Briefing on NRC International Activities (Public Meeting), (Contact: Karen Henderson, 301 415-0202)

This meeting will be webcast live at the Web address— http://www.nrc.gov.

* * * * *

* The schedule for Commission meetings is subject to change on short notice. To verify the status of meetings, call (recording)—(301) 415-1292. Contact person for more information: Rochelle Bavol, (301) 415-1651.

* * * * *

Additional Information

The Briefing on Fire Protection Closure Plan previously scheduled on Thursday, May 28, 2009, at 9:30 a.m. has been cancelled. A more focused briefing has been scheduled in its place: The Briefing on Fire Protection Lessons Learned from Shearon Harris currently scheduled on Tuesday, November 3, 2009, at 9:30 a.m.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: October 1, 2009.
Rochelle C. Bavol,
Office of the Secretary.

[FR Doc. E9-24142 Filed 10-2-09; 4:15 pm]

BILLING CODE 7590-01-P